ENVIRONMENTAL PROTECTION AGENCY

40 CFR Part 52

[EPA-R10-OAR-2011-0916; FRL-9916-14-Region 10]

Approval and Promulgation of Implementation Plans; Alaska

AGENCY: Environmental Protection Agency.

ACTION: Final rule.

SUMMARY: The Environmental Protection Agency (EPA) is taking final action to approve revisions to the Alaska State Implementation Plan (SIP). The State of Alaska (State) submitted these revisions on February 13, 2008, December 11, 2009, April 14, 2010, November 29, 2010, October 21, 2011, December 10, 2012, and January 28, 2013, to meet Clean Air Act (CAA) requirements. These revisions update the Alaska SIP to reflect changes to the National Ambient Air Quality Standards (NAAQS), area designations, and Federal permitting requirements under section 110 of the CAA. In addition, the submitted changes revise and clarify Alaska permitting rules, and remove provisions that are duplicated in other regulations. Although the EPA is approving most of the submitted revisions, the EPA is not approving certain provisions which are inappropriate for SIP approval. The EPA is also correcting the SIP to remove specific provisions that were previously approved into the SIP in error. The corrections remove provisions that implement other requirements of the CAA, are not required by section 110 of the CAA, and were not relied on by the State to demonstrate attainment or maintenance of the NAAQS or to meet other specific requirements of section 110 of the CAA. Finally, the EPA is deferring action on certain portions of the submissions, including those that adopt by reference updates to the Federal nonattainment major new source review requirements, because those revisions will be addressed in separate actions.

DATES: This final rule is effective on October 20, 2014.

ADDRESSES: The EPA has established a docket for this action under Docket Identification No. EPA-R10-OAR-2011-0916. All documents in the docket are listed on the http://www.regulations.gov Web site. Although listed in the index, some information may not be publicly available, i.e., Confidential Business Information or other information the disclosure of which is restricted by statute. Certain other material, such as copyrighted material, is not placed on the Internet and will be publicly available only in hard copy form. Publicly available docket materials are available either electronically through http://www.regulations.gov or in hard copy at EPA Region 10, Office of Air, Waste, and Toxics, AWT-107, 1200 Sixth Avenue, Seattle, Washington 98101. The EPA requests that you contact the person listed in the FOR FURTHER INFORMATION CONTACT section to schedule your inspection. The Regional Office's official hours of business are Monday through Friday, 8:30 a.m. to 4:30 p.m., excluding Federal holidays.

FOR FURTHER INFORMATION CONTACT: Donna Deneen at (206) 553-6706, deneen.donna@epa.gov, or by using the above EPA, Region 10 address.

SUPPLEMENTARY INFORMATION: Throughout this document wherever “we,” “us” or “our” is used, it is intended to refer to the EPA.

Table of Contents

I. Background

II. Response to Comments

III. Final Action

IV. Statutory and Executive Order Reviews

I. Background

The EPA proposed action on numerous revisions to the Alaska SIP in a notice of proposed rulemaking published on May 5, 2014 (79 FR 25533). These submitted revisions update the Alaska SIP to reflect changes to the NAAQS, area designations, and Federal permitting requirements under section 110 of the CAA. In addition, the submitted changes revise and clarify Alaska permitting rules, and remove provisions that are duplicated in other regulations. The EPA proposed to approve most of the submitted revisions except for certain provisions which are inappropriate for SIP approval because they implement other provisions of the CAA, are not required by section 110 of the CAA and were not relied on by the State to demonstrate attainment or maintenance of the NAAQS or to meet other specific requirements of section 110 of the CAA. In addition, the EPA proposed to correct the SIP to remove specific provisions that were previously approved into the SIP in error because they implement other provisions of the CAA and were not relied on by the State to demonstrate attainment or maintenance of the NAAQS or to meet other specific requirements of section 110 of the CAA. Finally, the EPA proposed to defer action on certain portions of the submissions, including those that adopt by reference updates to the Federal nonattainment major new source review requirements, because those revisions will be addressed in separate actions. More detail regarding the relevant CAA requirements, the revisions, and the EPA's reasons for this action were provided in the proposal. See 79 FR 25533. The public comment period for this proposed rule ended on June 4, 2014.

II. Response to Comments

The EPA received one comment letter on the May 5, 2014, proposed rule. The following summarizes the issues raised by the commenter and provides the EPA's responses.

Comment: The Alaska Department of Conservation (ADEC) states that it supports the EPA's proposed approval of revisions to the Alaska SIP, but that it has comments on a few specific aspects of the EPA's proposal.

Response: The EPA acknowledges ADEC's support of this action and provides responses to ADEC's other comments below.

Comment: ADEC disagrees with the EPA's proposal not to approve 18 AAC 50.345(l), which is a general condition required to be included in all permits and gives ADEC the discretion to approve an extension of a source test deadline established by ADEC. ADEC states that it is unreasonable to expect it to revise a permit and get the EPA's approval when ADEC cannot know a permittee will need an extension of source testing requirements until the need arises. The flexibility provided by 18 AAC 50.345(l), ADEC maintains, is needed to account for unique logistical situations, such as when a permittee is unable to get a source test contractor on site by the permit deadline due to such issues as contractor shortages or extreme-weather-related scheduling problems. ADEC explains that when it receives a request for an extension, the extensions are granted and the source test is required to be conducted as expeditiously as possible and that only a dozen or so such requests are received annually. ADEC concludes by requesting that the EPA approve 18 AAC 50.345(l).

Response: The EPA previously disapproved 18 AAC 50.345(l) on August 14, 2007 (72 FR 45378), and the State has not submitted a revision to 18 AAC 50.345(l) since then. As a result, no revision to 18 AAC 50.345(l) is before the EPA for action at this time. The EPA acknowledges the May 5, 2014, proposal may not have been clear that a revision to 18 AAC 50.345(l) was not before us. The intent of the EPA's statement that it was not approving 18 AAC 50.345(l) was to avoid any implication that, by approving the submitted revisions to other parts of 18 AAC 50.345, it was also approving any revisions to 18 AAC 50.345(l) as none had been submitted.

In any event, the EPA continues to believe that 18 AAC 50.345(l) is not appropriate for SIP approval for the reasons previously identified by the EPA in its prior action. See 72 FR 5232 (February 5, 2007). The regulation itself contains no criterion that bounds ADEC's discretion to grant an extension of the source test deadline, such as the maximum time for an extension or the circumstances under which an extension will be granted. See, e.g., 40 CFR 60.8 (provisions authorizing an extension of a source test deadline for “force majeure” events). Unless it is possible at the time of the approval of a director's discretion-type provision into a SIP to anticipate and analyze all of the impacts of the potential exercise of the director's discretion, such provisions functionally could allow de facto revisions of the approved provisions of the SIP without complying with the process for SIP revisions required by the CAA. See 78 FR 12460, 12485-86 (February 22, 2013).

The EPA understands the goal of 18 AAC 50.345(l) is to provide flexibility where an extension to a source test deadline established by ADEC is needed to account for unique logistical situations. If requested by Alaska, the EPA will work with the State to develop revised rules that are consistent with ADEC's goal and also consistent with the Clean Air Act and implementing regulations.

Comment: ADEC objects to the proposed disapproval of 18 AAC 50.346(a). ADEC describes this provision as dealing with the adoption by reference and use of Standard Operating Permit Condition II—Air Pollution Prohibited. ADEC states that it believes the EPA may have incorrectly interpreted the conditions in Standard Operating Permit Condition II, arguing that Condition II.2.1 addresses situations in which emissions present a potential threat to human health and safety and require that such emissions be reported and that actual impacts are, therefore, monitored. ADEC also argues that Condition II.2.1 and II.2.2 require reporting and investigation of emissions that are believed to have caused or are causing violation of Condition II.1, and Condition II.2.4 requires permittees to keep records, all of which constitute monitoring for compliance. ADEC believes that the EPA's disapproval addresses only the language found in Condition II.2.3, which does require corrective action after a violation has occurred. ADEC requests that the EPA either approve 18 AAC 50.346(a) or provide additional explanation for why it is not approvable.

Response: Region 10 continues to believe that 18 AAC 50.346(a) is not appropriate for SIP approval. We raised concerns in our previous action at 72 FR 5238 (February 5, 2007) that Standard Permit Condition II, which is incorporated into 18 AAC 50.346(a), only requires corrective action after a violation of 18 AAC 50.110 has occurred. Based on the comment by ADEC, we now agree that Standard Permit Condition II requires other ongoing monitoring, recordkeeping and reporting (MRR) in addition to the corrective action provision. However, the standard condition also authorizes ADEC to use something other than the Standard Permit Condition if “the Department determines that emission unit or stationary source specific conditions more adequately meet the requirements of 18 AAC 50.” As such, it reserves to ADEC authority to impose case-by-case MRR for the underlying SIP requirement (18 AAC 50.110) as an alternative to Standard Permit Condition II through the permitting process with no bounds on the exercise of that discretion. Although authority to impose appropriate MRR is an important part of the permitting process, approving into the SIP a specified MRR requirement for a SIP air quality control requirement such as 18 AAC 50.110 that also authorizes the permitting authority unbounded discretion to impose alternative requirements is inconsistent with the process for SIP revisions required by the CAA. See 78 FR 12460, 12485-86 (February 22, 2013). Therefore, EPA continues to believe that it cannot approve 18 AAC 50.346(a) into the SIP. The EPA notes, however, that, ADEC has authority under its SIP-approved permitting program to determine whether this Standard Condition or some alternative MRR is appropriate for 18 AAC 50.110 in issuing a permit for a particular emission unit or source. Once such a permit is issued under the SIP, the MRR would then be Federally-enforceable whether it is the Standard Permit Condition or a case-by-case alternative.

Comment: ADEC disagrees with the EPA's proposal to not approve 18 AAC 50.542(b)(2), which allows ADEC to require an owner/operator to submit an application online on the grounds that ADEC's online system has not yet been certified by the EPA as Cross-Media Electronic Reporting Rule (CROMERR) compliant. ADEC states that it is continuing to work in good faith with the EPA to meet CROMERR requirements and that it is inappropriate to not approve 18 AAC 50.542(b)(2) because (1) ADEC has an existing system, which has been acknowledged as such by the EPA; (2) ADEC has submitted a CROMERR application; (3) CROMERR regulations have no provisions where an existing system cannot be used; and (4) Meeting CROMERR requirements is a challenging endeavor that has been so difficult in some cases that the EPA has been working to create services to help programs to meet CROMERR. ADEC continues that it is close to being able to formally resubmit its Air Online Services (AOS) program under CROMERR and that, until then, ADEC should be able to continue to utilize all of its tools and resources to not only meet Federal requirements but to also efficiently and effectively process permits. Therefore, ADEC requests that, although ADEC's online system has not yet been certified as CROMERR compliant, the EPA continue to work with the State to approve the program as expeditiously as possible.

Response: The provision at 18 AAC 50.542(b)(2) allows ADEC to require the owner/operator to submit permit applications online. The EPA previously disapproved this provision on August 14, 2007 (72 FR 45378), and the State has not submitted a revision to 18 AAC 50.542(b)(2) since then. As a result no revision to 18 AAC 50.542(b)(2) is before the EPA for action at this time. The EPA acknowledges the May 5, 2014, proposal may not have been clear that a revision to 18 AAC 50.542(b)(2) was not before us. The intent of the EPA's statement that it was not approving 18 AAC 50.542(b)(2) was to avoid any implication that, by approving submitted revisions to other parts of 18 AAC 50.542, it was also approving any revisions to 18 AAC 50.542(b)(2) as none had been submitted.

In any event, the EPA continues to believe that 18 AAC 50.542(b)(2) is not appropriate for SIP approval for the reasons previously identified by the EPA in its prior action. See 72 FR 5232 (February 5, 2007). We acknowledge ADEC's continuing efforts to meet CROMERR requirements and will continue to assist the State in developing an approvable program for electronic recordkeeping and reporting under CROMERR, taking into account ADEC's concerns. Once ADEC receives CROMERR approval and resubmits 18 AAC 50.542(b)(2) for SIP approval, we will take appropriate action on this provision.

III. Final Action

Provisions the EPA Is Approving and Incorporating by Reference

Consistent with the discussion and analysis in the proposed rulemaking published on May 5, 2014, and in this action, the EPA is approving into the SIP at 40 CFR part 52, subpart C, the Alaska laws and regulations listed in the table below.

Alaska Provisions for Approval and Incorporation by Reference
State citation | Title/Subject | State effective date | Explanation
18 AAC 50.010 | Ambient Air Quality Standards | 1/4/2013 | except (7) and (8).
18 AAC 50.015 | Air Quality Designations, Classifications, and Control Regions | 12/9/2010 |
18 AAC 50.020 | Baseline Dates and Maximum Allowable Increases | 1/4/2013 |
18 AAC 50.035 | Documents, Procedures, and Methods Adopted by Reference | 1/4/2013 | except (a)(6) and (b)(4).
18 AAC 50.040 | Federal Standards Adopted by Reference | 1/4/2013, 12/3/2005 | except (a), (b), (c), (d), (e), (g), (h)(21), (i)(7), (i)(8), (i)(9), (j), and (k).
18 AAC 50.050 | Incinerator Emission Standards | 7/25/2008 |
18 AAC 50.055 | Industrial Processes and Fuel-Burning Equipment | 12/9/2010 | except (d)(2)(B).
18 AAC 50.215 | Ambient Air Quality Analysis Methods | 1/4/2013, 10/1/2004 | except (a)(4).
18 AAC 50.220 | Enforceable Test Methods | 9/14/2012 | except (c)(1)(A), (B), (C), and (c)(2).
18 AAC 50.225 | Owner-Requested Limits | 9/14/2012 |
18 AAC 50.302 | Construction Permits | 9/14/2012 | except (a)(3).
18 AAC 50.306 | Prevention of Significant Deterioration (PSD) Permits | 1/4/2013 |
18 AAC 50.345 | Construction, Minor and Operating Permits: Standard Permit Conditions | 9/14/2012 | except (b), (c)(3), and (l).
18 AAC 50.400 | Permit Administration Fees | 9/14/2012, 7/25/2008 | except (a), (b), (c), (d), (f), (j)(1) through (18), (j)(21) through (23), and (k).
18 AAC 50.502 | Minor Permits for Air Quality Protection | 1/4/2013 |
18 AAC 50.508 | Minor Permits Requested by the Owner or Operator | 12/9/2010 |
18 AAC 50.510 | Minor Permit: 18 AAC 50.510 Minor Permit—Title V Permit Interface | 12/9/2010 |
18 AAC 50.540 | Minor Permit: Application | 1/4/2013 |
18 AAC 50.542 | Minor Permit: Review and Issuance | 1/4/2013 | except (b)(2).
18 AAC 50.544 | Minor Permits: Content | 12/9/2010 |
18 AAC 50.546 | Minor Permits: Revisions | 7/25/2008 | except (b).
18 AAC 50.990 | Definitions | 9/14/2012 | except (92) as it relates to 18 AAC 50.040(i).
Alaska Statute Sec. 46.14.550 | Responsibilities of Owner and Operator; Agent for Service | 1/4/2013 |
Alaska Statute Sec. 46.14.990 | Definitions | 1/4/2013 | except (1)-(3), (6), (7), (9)-(14), (19)-(26), and (28).

In addition, the EPA finds that the statutes submitted by the State in its SIP revisions, with the exceptions discussed in the May 5, 2014, proposal, continue to provide the State with adequate legal authority to carry out the requirements of the Alaska SIP. In general, the EPA is not incorporating by reference the statutory provisions submitted by the State to avoid potential conflict with the EPA's independent authorities.

Provisions the EPA Is Not Approving

For the reasons explained in the proposed rule published on May 5, 2014, we are not approving the following provisions:

• 18 AAC 50.010 “Ambient Air Quality Standards,” paragraphs (7) and (8).

• 18 AAC 50.030 “State Air Quality Control Plan.”

• 18 AAC 50.035 “Documents, Procedures, and Methods Adopted by Reference,” subparagraphs (a)(6) and (b)(4).

• 18 AAC 50.040 “Federal Standards Adopted by Reference,” paragraphs (a), (b), (c), (d), (e), (g), (j) and (k), and subparagraph (h)(21).

• 18 AAC 50.055 “Industrial Processes and Fuel-Burning Equipment,” subparagraph (d)(2)(B).

• 18 AAC 50.215 “Ambient Air Quality Analysis Methods,” subparagraph (a)(4).

• 18 AAC 50.220 “Enforceable Test Methods,” subparagraph (c)(2).

• 18 AAC 50.326 “Title V Operating Permits, paragraph (e).

• 18 AAC 50.345 “Construction, Minor and Operating Permits: Standard Permit Conditions,” paragraph (b), (c)(3), and (l).

• 18 AAC 50.346 “Construction and operating permits: other permit conditions,” paragraphs (a), (b) and (c).

• 18 AAC 50.400 “Permit Administration Fees,” paragraph (a).

• 18 AAC 50.542 “Minor Permit: Review and Issuance,” subparagraph (b)(2).

• 18 AAC 50.546 “Minor Permits: Revisions,” paragraph (b).

• AS 46.14.540 “Authority of Department in Cases of Emergency.”

Provisions the EPA Is Removing From the SIP or From Incorporation by Reference

Under the authority of CAA section 110(k)(6), we are correcting the SIP to remove specific provisions from the Alaska SIP that were previously approved into the SIP in error. The provisions listed below implement other requirements of the CAA, were not required to be submitted under section 110 of the CAA, and were not relied on by the State to demonstrate attainment or maintenance of the NAAQS or to meet other specific requirements of section 110 of the Act. They are therefore not appropriate for approval into the SIP: 18 AAC 50.220(c)(1)(A), (B), (C) and 18 AAC 50.302(a)(3). Because these provisions are not required under the CAA, our action to remove these provisions, which results in a disapproval of these provisions, does not make the SIP deficient.

We are also removing the incorporation by reference of AS 46.14.510(b). This statutory provision continues to be in the SIP, but is no longer necessary to be incorporated by reference because the provision is addressed by the incorporation by reference of regulations elsewhere in the Federally-approved SIP (at 18 AAC 52.015(a), (b), 52.990(66)(B) and 52.100(d)(3)).

Provisions the EPA is Taking No Action On

Finally, as detailed in the proposed rulemaking published on May 5, 2014, we are taking no action on the following Alaska provisions: 18 AAC 50.040 “Federal Standards Adopted by Reference” paragraph (i) (adoption by reference of Federal nonattainment NSR regulations at 40 CFR 51.165); 18 AAC 50 Article 7 “Conformity;” and AS 46.14.560 “Unavoidable Malfunctions and Emergencies.” We intend to address these changes in separate actions.

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501, et seq.);

• is certified as not having a significant economic impact on a substantial number of small entities under the Regulatory Flexibility Act (5 U.S.C. 601, et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and the EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 18, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: August 15, 2014.
Michelle L. Pirzadeh,
Acting Regional Administrator, Region 10.

40 CFR part 52 is amended as follows:

PART 52—APPROVAL AND PROMULGATION OF IMPLEMENTATION PLANS

1. The authority citation for part 52 continues to read as follows:

Authority: 42 U.S.C. 7401 et seq.

Subpart C—Alaska

2. In § 52.70, the table in paragraph (c) is amended by:

a. Revising entries 18 AAC 50.010 through 18 AAC 50.020.

b. Revising entries 18 AAC 50.035, 18 AAC 50.040, 18 AAC 50.050, and 18 AAC 50.055.

c. Revising entries 18 AAC 50.215 through 18 AAC 50.225.

d. Revising entries 18 AAC 50.302, 18 AAC 50.306, and 18 AAC 50.345.

e. Adding, in numerical order, the subheading “18 AAC 50 Article 4. User Fees” and entry “18 AAC 50.400”.

f. Revising entries 18 AAC 50.502 and 18 AAC 50.508.

g. Adding in numerical order entry 18 AAC 50.510.

h. Revising entries 18 AAC 50.540 through 18 AAC 50.546.

i. Revising entry 18 AAC 50.990.

j. Removing entry Sec. 46.14.510.

k. Revising entries Sec. 46.14.550 and Sec. 46.14.990.

The revisions and additions read as follows:

§ 52.70 Identification of plan.

* * * * *

(c) * * *

EPA-Approved Alaska Regulations and Statutes
State citation | Title/Subject | State effective date | EPA Approval date | Explanations
Alaska Administrative Code Title 18 Environmental Conservation, Chapter 50 Air Quality Control (18 AAC 50)
* * * * * * *
18 AAC 50.010 | Ambient Air Quality Standards | 1/4/13 | 9/19/14 [Insert Federal Register citation] | except (7) and (8).
18 AAC 50.015 | Air Quality Designations, Classifications, and Control Regions | 12/9/10 | 9/19/14 [Insert Federal Register citation]
18 AAC 50.020 | Baseline Dates and Maximum Allowable Increases | 1/4/13 | 9/19/14 [Insert Federal Register citation]
* * * * * * *
18 AAC 50.035 | Documents, Procedures and Methods Adopted by Reference | 1/4/13 | 9/19/14 [Insert Federal Register citation] | except (a)(6) and (b)(4).
18 AAC 50.040 | Federal Standards Adopted by Reference | 1/4/13; 12/3/05 | 9/19/14 [Insert Federal Registercitation]; 72 FR 45378 (8/14/07) | except (a), (b), (c), (d), (e), (g), (h)(21), (i)(7), (i)(8), (i)(9), (j), and (k).
* * * * * * *
18 AAC 50.050 | Incinerator Emission Standards | 7/25/08 | 9/19/14 [Insert Federal Register citation]
18 AAC 50.055 | Industrial Processes and Fuel-Burning Equipment | 12/9/10 | 9/19/14 [Insert Federal Register citation] | except (d)(2)(B).
* * * * * * *
18 AAC 50.215 | Ambient Air Quality Analysis Methods | 1/4/13; 10/1/04 | 9/19/14 [Insert Federal Register citation]; 72 FR 45378 (8/14/07) | except (a)(4)
18 AAC 50.220 | Enforceable Test Methods | 9/14/12 | 9/19/14 [Insert Federal Register citation] | except (c)(1)(A), (B), (C), and (c)(2).
18 AAC 50.225 | Owner-Requested Limits | 9/14/12 | 9/19/14 [Insert Federal Register citation]
* * * * * * *
18 AAC 50.302 | Construction Permits | 9/14/12 | 9/19/14 [Insert Federal Register citation] | except (a)(3).
18 AAC 50.306 | Prevention of Significant Deterioration (PSD) Permits | 1/4/13 | 9/19/14 [Insert Federal Register citation]
* * * * * * *
18 AAC 50.345 | Construction, Minor and Operating Permits: Standard Permit Conditions | 9/14/12 | 9/19/14 [Insert Federal Register citation] | except (b), (c)(3), and (l).
18 AAC 50 Article 4. User Fees
18 AAC 50.400 | Permit Administration Fees | 9/4/12 | 9/19/14 [Insert Federal Register citation] | except (a), (b), (c), (d), (f), (j)(1) through (18), (j)(21) through (23), and (k).
* * * * * * *
18 AAC 50.502 | Minor Permits for Air Quality Protection | 1/4/13 | 9/19/14 [Insert Federal Register citation]
18 AAC 50.508 | Minor Permits Requested by the Owner or Operator | 12/9/10 | 9/19/14 [Insert Federal Register citation]
18 AAC 50.510 | Minor Permit: 18 AAC 50.510 Minor Permit—Title V Permit Interface | 12/9/10 | 9/19/14 [Insert Federal Register citation]
18 AAC 50.540 | Minor Permit: Application | 1/4/13 | 9/19/14 [Insert Federal Register citation]
18 AAC 50.542 | Minor Permit: Review and Issuance | 1/4/13 | 9/19/14 [Insert Federal Register citation] | except (b)(2).
18 AAC 50.544 | Minor Permits: Content | 12/9/10 | 9/19/14 [Insert Federal Register citation]
18 AAC 50.546 | Minor Permits: Revisions | 7/15/08 | 9/19/14 [Insert Federal Register citation] | except (b).
* * * * * * *
18 AAC 50.990 | Definitions | 9/14/12 | 9/19/14 [Insert Federal Register citation] | except (92) as it relates to 18 AAC 50.040(i).
* * * * * * *
Alaska Statutes
* * * * * * *
Title 46 Water, Air, Energy, and Environmental Conservation, Chapter 46.14. Air Quality Control
Sec. 46.14.550 | Responsibilities of Owner and Operator | 1/4/13 | 9/19/14 [Insert Federal Register citation]
* * * * * * *
Sec. 46.14.990 | Definitions | 1/4/13 | 9/19/14 [Insert Federal Register citation] | except (1) (3), (6), (7), (9) (14), (19) (26), and (28).

* * * * *

3. Section 52.96 is amended by revising paragraph (a) to read as follows:

§ 52.96 Significant deterioration of air quality.

(a) The State of Alaska Department of Environmental Conservation Air Quality Control Regulations are approved as meeting the requirements of 40 CFR 51.166 and this part for preventing significant deterioration of air quality. The specific provisions approved are: 18 AAC 50.010 except (7) and (8), 18 AAC 50.020, 18 AAC 50.035 (a)(4) and (5) and (b)(1) (but only with respect to the incorporation by reference of 40 CFR part 50, appendix P), 18 AAC 50.040(h) except (7) and (9), and 18 AAC 50.306 as in effect on January 4, 2013; 18 AAC 50.215 except (a)(4) and (d), 18 AAC 50.345 except (b), (c)(3) and (l), and 18 AAC 50.990 except (92) as it relates to 18 AAC 50.040(i)) as in effect on September 14, 2012; 18 AAC 50.015 as in effect on December 9, 2010; 18 AAC 50.040 (7) and (9) as in effect on December 3, 2005; and 18 AAC 50.215(d) and 18 AAC 50.250 as in effect on October 1, 2004.

* * * * *

[FR Doc. 2014-22165 Filed 9-18-14; 8:45 am]

BILLING CODE 6560-50-P